DEPARTMENT OF HEALTH AND HUMAN SERVICES

Centers for Disease Control and Prevention

[30Day-18-0706]

Agency Forms Undergoing Paperwork Reduction Act Review

In accordance with the Paperwork Reduction Act of 1995, the Centers for Disease Control and Prevention (CDC) has submitted the information collection request titled National Program of Cancer Registries Program Evaluation Instrument (NPCR_PEI) to the Office of Management and Budget (OMB) for review and approval. CDC previously published a “Proposed Data Collection Submitted for Public Comment and Recommendations” notice on January 5, 2017 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street, NW, Washington, DC 20503 or by fax to (202) 395-5806. Provide written comments within 30 days of notice publication.

Proposed Project

National Program of Cancer Registries Program Evaluation Instrument (NPCR-PEI)—(OMB Control Number 0920-0706, expired 05/31/2016)—Reinstatement with change—National Center for Chronic Disease Prevention and Health Promotion (NCCDPHP), Centers for Disease Control and Prevention (CDC).

Background and Brief Description

CDC is responsible for administering and monitoring the National Program of Cancer Registries (NPCR). The NPCR provides technical assistance and funding and sets program standards to assure that complete local, state, regional, and national cancer incidence data are available for national and state cancer control and prevention activities and health planning activities.

CDC has used the Program Evaluation Instrument for 24 years to monitor the performance of NPCR grantees in meeting the required Program Standards. In 2009, CDC reduced the frequency of the data collection from an annual to a biennial schedule in odd-numbered years.

CDC currently supports 48 population-based central cancer registries (CCR) in 45 states, one territory, the District of Columbia, and the Pacific Islands. The National Cancer Institute supports the operations of CCRs in the five remaining states.

CDC released a new Funding Opportunity Announcement (FOA) (DP17-1701) on December 15, 2017. This FOA closed on March 24, 2017. A new project period began on July 1, 2017. DP17-1701 allowed previously unfunded states to apply for NPCR funding. DP17-1701 NPCR eligibility will include the 48 awardees funded under the DP12-1205 FOA and potentially two previously unfunded State health departments or their Bona Fide Agents, and US territories.

The Program Evaluation Instrument (NCPR-PEI) includes questions about the following categories of registry operations: (1) Staffing, (2) legislation, (3) administration, (4) reporting completeness, (5) data exchange, (6) data content and format, (7) data quality assurance, (8) data use, (9) collaborative relationships, (10) advanced activities, and (11) survey feedback.

Examples of possible obtainable information include, but are not limited to: (1) Number of filled staff full-time positions by position responsibility; (2) revision to cancer reporting legislation; (3) various data quality control activities; (4) data collection activities as they relate to achieving NPCR program standards for data completeness; and (5) whether registry data is being used for comprehensive cancer control programs, needs assessment/program planning, clinical studies, or incidence and mortality estimates.

The NPCR-PEI is needed to receive, process, evaluate, aggregate, and disseminate NPCR program information. The CDC and NPCR-funded registries use this information to monitor progress toward meeting established program standards, goals, and objectives; to evaluate various attributes of the registries funded by NPCR; and to respond to data inquiries made by CDC and other agencies of the federal government.

CDC requests a three-year OMB approval to collect information in the winter of 2017 and 2019. There are no costs to respondents except their time. CDC estimates 66 hours a year in time burden for the respondents.

Estimated Annualized Burden Hours
Type of respondents | Form name | Number of respondents | Number of responses per respondent | Avg. burden per response (in hours) | Total burden (in hours)
NPCR Awardees | PEI (Online) | 30 | 1 | 2 | 60
NPCR Awardees | PEI (Paper) | 3 | 1 | 2 | 6
Total |  |  |  |  | 66

Leroy A. Richardson,
Chief, Information Collection Review Office, Office of Scientific Integrity, Office of the Associate Director for Science, Office of the Director, Centers for Disease Control and Prevention.

[FR Doc. 2017-26779 Filed 12-12-17; 8:45 am]

BILLING CODE 4163-18-P